SECURITIES AND EXCHANGE COMMISSION

[Release No. 34-75529; File No. SR-ICC-2015-009]

Self-Regulatory Organizations; ICE Clear Credit LLC; Notice of Designation of Longer Period for Commission Action on Proposed Rule Change To Revise the ICC Risk Management Framework

July 27, 2015.

On May 28, 2015, ICE Clear Credit LLC (“ICC”) filed with the Securities and Exchange Commission (“Commission”), pursuant to section 19(b)(1) of the Securities Exchange Act of 1934 (“Act”) ¹ and Rule 19b-4 thereunder,² a proposed rule change to make revisions to the ICC Risk Management Framework (SR-ICC-2015-009). The proposed rule change was published for comment in the Federal Register on June 12, 2015.³ To date, the Commission has not received comments on the proposal.

¹ 15 U.S.C. 78s(b)(1).

² 17 CFR 240.19b-4.

³ Securities Exchange Act Release No. 34-75119 (Jun. 8, 2015), 80 FR 33573 (Jun. 12, 2015) (SR-ICC-2015-009).

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day from the publication of notice of filing of this proposed rule change is July 27, 2015.

⁴ 15 U.S.C. 78s(b)(2).

The Commission is extending the 45-day time period for Commission action on the proposed rule change. ICC's proposed rule change would revise the ICC Risk Management Framework to extend its General Wrong Way Risk framework to the portfolio level to account for the potential accumulation of portfolio wrong way risk through Risk Factor specific wrong way risk exposures. The Commission finds it is appropriate to designate a longer period within which to take action on the proposed rule change so that it has sufficient time to consider ICC's proposed rule change.

Accordingly, the Commission, pursuant to section 19(b)(2) of the Act,⁵ designates September 10, 2015, as the date by which the Commission should either approve or disapprove, or institute proceedings to determine whether to disapprove, the proposed rule change (File No. SR-ICC-2015-009).

⁵ 15 U.S.C. 78s(b)(2).

For the Commission, by the Division of Trading and Markets, pursuant to delegated authority.⁶
⁶ 17 CFR 200.30-3(a)(31).
Robert W. Errett,
Deputy Secretary.

[FR Doc. 2015-18769 Filed 7-30-15; 8:45 am]

BILLING CODE 8011-01-P